DEPARTMENT OF AGRICULTURE

Animal and Plant Health Inspection Service

[Docket No. 04-006-1]

Secretary's Advisory Committee on Foreign Animal and Poultry Diseases; Meeting

AGENCY: Animal and Plant Health Inspection Service, USDA.

ACTION: Notice of meeting.

SUMMARY: Pursuant to the Federal Advisory Committee Act (5 U.S.C. App. II), we are giving notice of a meeting of the Secretary's Advisory Committee on Foreign Animal and Poultry Diseases.

DATES: The meeting will be held on February 4, 2004, from 8 a.m. to 5 p.m.

ADDRESSES: The meeting will be held in the Conference Center at the USDA Center at Riverside, 4700 River Road, Riverdale, MD.

Written statements on the meeting topic may be sent to Dr. Joseph Annelli, Director Outreach/Liaison, Emergency Management, APHIS, 4700 River Road Unit 41, Riverdale, MD 20737-1231.

FOR FURTHER INFORMATION CONTACT: Dr. Joseph Annelli, Director Outreach/Liaison, Emergency Management, APHIS, 4700 River Road Unit 41, Riverdale, MD 20737-1231; (301) 734-8073.

SUPPLEMENTARY INFORMATION: The Secretary's Advisory Committee on Foreign Animal and Poultry Diseases (the Committee) advises the Secretary of Agriculture on actions necessary to prevent the introduction of foreign diseases of livestock and poultry into the United States. In addition, the Committee advises the Secretary on contingency planning and on maintaining a state of preparedness to deal with these diseases, if introduced.

A subcommittee has been established to address issues related to the detection of bovine spongiform encephalopathy (BSE) in the United States. At this meeting, the subcommittee will make its report to the Committee, and the Committee will discuss the report and consider what recommendations to make to the Secretary. The meeting will be open to the public, and any member of the public may file a written statement. However, due to the time constraints, only Committee members will be allowed to participate in the Committee's discussions.

You may file written statements on meeting topics with the Committee before or after the meeting. You may also file written statements at the time of the meeting. Please refer to Docket No. 04-006-1 when submitting your statements.

General Services Administration regulations in 41 CFR part 102-3, § 102-3.150, provide that notice of Federal advisory committee meetings must be published in the Federal Register at least 15 calendar days prior to an advisory committee meeting, except in exceptional circumstances and provided that the reasons for giving less than 15 days notice are included in the Federal Register notice. The Secretary has determined that this meeting must be held without providing the full 15 days notice in order for the Committee to hear and consider the subcommittee's report on BSE and provide timely advice to the Secretary regarding the current BSE situation in the United States.

Parking and Security Procedures

Please note that a fee of $2.25 is required to enter the parking lot at the USDA Center. The machine accepts $1 bills and quarters.

Upon entering the building, visitors should inform security personnel that they are attending the Advisory Committee Meeting on Foreign Animal and Poultry Diseases. Identification is required. Visitor badges must be worn at all times while inside the building.

Done in Washington, DC, this 16th day of January, 2004.
Peter Fernandez,
Acting Administrator, Animal and Plant Health Inspection Service.

[FR Doc. 04-1410 Filed 1-21-04; 8:45 am]

BILLING CODE 3410-34-P